DEPARTMENT OF DEFENSE

48 CFR Part 209

Defense Federal Acquisition Regulation Supplement; Technical Amendment

AGENCY: Department of Defense (DoD).

ACTION: Final rule.

SUMMARY: DoD is making a technical amendment to the Defense Federal Acquisition Regulation Supplement to update the list of agency debarring and suspending officials.

DATES: Effective March 23, 2005.

FOR FURTHER INFORMATION CONTACT: Ms. Michele Peterson, Defense Acquisition Regulations System, OUSD (AT&L) DPAP (DAR), IMD 3C132, 3062 Defense Pentagon, Washington, DC 20301-3062. Telephone (703) 602-0311; facsimile (703) 602-0350.

List of Subjects in 48 CFR Part 209

Government procurement.

Michele P. Peterson,
Editor, Defense Acquisition Regulations System.

Therefore, 48 CFR Part 209 is amended as follows:

1. The authority citation for 48 CFR Part 209 continues to read as follows:

Authority: 41 U.S.C. 421 and 48 CFR Chapter 1.

PART 209—CONTRACTOR QUALIFICATIONS

209.403 [Amended]

2. Section 209.403 is amended in the definition of “Debarring and suspending official”, in paragraph (1), by removing “National Security Agency—The Director” and adding in its place “National Security Agency—The Senior Acquisition Executive”.

[FR Doc. 05-5633 Filed 3-22-05; 8:45 am]

BILLING CODE 5001-08-P